FEDERAL ELECTION COMMISSION

Sunshine Act Notices

DATE AND TIME: Tuesday, January 25, 2000 at 10 a.m.

PLACE: 999 E Street, N.W., Washington, D.C.

STATUS: This Meeting Will be Closed to the Public.

ITEMS TO BE DISCUSSED:

Compliance matters pursuant to 2 U.S.C. § 437g

Audits conducted pursuant to 2 U.S.C. § 437g, § 438(b), and Title 26, U.S.C.

Matters concerning participation in civil actions or proceedings or arbitration

Internal personnel rules and procedures or matters affecting a particular employee

* * * * *

DATE AND TIME: Thursday, January 27, 2000 at 10 a.m.

PLACE: 999 E Street, N.W., Washington, D.C. (Ninth Floor).

STATUS: This Meeting Will be Open to the Public.

ITEMS TO BE DISCUSSED:

Correction and Approval of Minutes

Advisory Opinion 1999-32: Tohono O'odham Nation by counsel, William C. Oldaker

Advisory Opinion 1999-33: MediaOne PAC by Rahn Porter, treasurer

Legislative Recommendations 2000

1996 Democratic National Convention Committee, Inc.—Administrative Review of Repayment Determination (LRA#471)

1996 Committee on Arrangements for the Republican National Convention—Statement of Reasons (LRA#472)

Administrative Matters.

PERSON TO CONTACT FOR INFORMATION: Mr. Ron Harris, Press Officer, Telephone: (202) 694-1220.

Mary W. Dove,
Acting Secretary of the Commission.

[FR Doc. 00-1458 Filed 1-18-00; 11:02 am]

BILLING CODE 6715-01-M